COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective 9/17/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 6/15/2012 (77 FR 35942-35944) and 6/22/2012 (77 FR 37659-37660), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 7510-01-156-7936—Presentation Folder, Dark Blue with Debossed Gold Seal, Soft Cover

NSN: 7510-01-GG0-1102—Award Folder, Public Service with White Debossed Gold Seal, Hard Cover

NSN: 7510-01-094-1485—Award Folder, Commandant Medal, Dark Blue with Debossed Gold Seal, Padded Cover

NSN: 7510-01-097-6004—Award Folder, Commandant Letter, Dark Blue with Debossed Gold Seal, Hard Cover

NPA: Dallas Lighthouse for the Blind, Inc., Dallas, TX

Contracting Activity: Department of Homeland Security, U.S. Coast Guard, SFLC Procurement Branch 3, Baltimore, MD

Coverage: C-List for 100% of the requirement of the U.S. Coast Guard, as aggregated by the U.S. Coast Guard, Baltimore, MD.

Services

Service Type/Location: Custodial Service, U.S. Military Academy (USMA), Warrior Transition Unit, Building #624, West Point, NY

NPA: Occupations, Inc., Middletown, NY

Contracting Activity: Dept of the Army, W6QM MICC-West Point, West Point, NY

Service Type/Location: Grounds Maintenance, U.S. Department of Agriculture (USDA), Animal and Plant Health Inspection Service (APHIS), Plant Protection and Quarantine (PPQ), 6302 NW 36th Street, Miami, FL

NPA: Goodwill Industries of South Florida, Inc., Miami, FL

Contracting Activity: Dept of Agriculture, Animal and Plant Health Inspection Service, Minneapolis, MN

Service Type/Location: Administrative Services, Housing and Urban Development (HUD)—Atlanta Field Office, 40 Marietta Street, Atlanta, GA

NPA: Nobis Enterprises, Inc., Marietta, GA

Contracting Activity: Dept of Housing and Urban Development, Chicago Regional Office, RCO, Chicago, IL

Service Type/Locations: Warehouse & Supply Support Services, Naval Amphibious Base Little Creek, Building 1558, 2425 Stalwart Drive, Norfolk, VA

Norfolk Naval Base, 1837 Morris Street, Building Z133, Aircraft Tow Way, Building V53, Norfolk, VA

St. Juliens Creek Annex, Building 174 “E” Street, Buildings 59 & 79 Magazine Road, Portsmouth, VA

Washington Navy Yard, 1325 10th Street SE, Washington, DC

NPA: Goodwill Services, Inc., Richmond, VA

Contracting Activity: Dept of the Navy, SPAWAR Systems Center Atlantic, North Charleston, SC

Service Type/Location: Grounds Maintenance, Corpus Christi Resident Office, U.S. Army Corps of Engineers (USACE), Southern Area Office (SAO), 1920 N. Chaparral St., Corpus Christi, TX

NPA: Training, Rehabilitation, & Development Institute, Inc., San Antonio, TX

Contracting Activity: Dept of the Army, W076 ENDIST Galveston, Galveston, TX

Service Type/Location: Firewatch/Tank Void/Lead Handler Support Services, Puget Sound Naval Ship Yards at Bremerton, Bangor and Keyport, 1400 Farragut Avenue, Bremerton, WA

NPA: Skookum Educational Programs, Bremerton, WA

Contracting Activity: Dept of the Navy, NAVSUP FLT LOG CTR puget sound, Bremerton, WA

Service Type/Location: Document Management Services, Department of Homeland Security, Customs and Border Protection, Passenger Systems Program Office, (Offsite: 3043 Sanitarium Road, Akron, OH) 1331 Pennsylvania Avenue NW, Washington, DC

NPA: Coleman Professional Services, Kent, OH

Contracting Activity: Dept of Homeland Security, U.S. Customs and Border Protection, Information Technology Contracting Division, Washington, DC

Service Type/Location: Courier Service, Department of Homeland Security (DHS), U.S. Immigration and Customs Enforcement (USICE), Office of the Principal Legal Advisor, New York Office of Chief Counsel, 290 Broadway Street, New York, NY

NPA: Fedcap Rehabilitation Services, Inc., New York, NY

Contracting Activity: Dept of Homeland Security, U.S. Immigration and Customs Enforcement, Mission Support Orlando, Orlando, FL

Barry S. Lineback,
Director, Business Operations.

[FR Doc. 2012-20252 Filed 8-16-12; 8:45 am]

BILLING CODE 6353-01-P